FEDERAL COMMUNICATIONS COMMISSION

47 CFR Part 1

[CS Docket No. 97-98; FCC 00-116]

Rules and Policies Governing Pole Attachments

Correction

In rule document 00-11911 beginning on page 31270 in the issue of Wednesday, May 17, 2000, make the following corrections:

1. On page 31273, in the third equation from the top, in the third variable from the left, in the second line, “Depreciation on (Poles)” should read “Depreciation (Poles)”.

§1.1404 [Corrected]

2. On page 31282, in the first column, in §1.1404, in paragraph (g)(1)(vii), in the second line, “paragraph (g)(i)(vi)” should read “paragraph (g)(1)(vi)”.

3. On the same page, in the same column, in paragraph (g)(1)(viii), in the second line, “paragraph (g)(i)(vi)” should read “paragraph (g)(1)(vi)”.

[FR Doc. C0-11911 Filed 5-30-00; 8:45 am]

BILLING CODE 1505-01-D

DEPARTMENT OF LABOR

Employment and Training Administration

Workforce Investment Act; Lower Living Standard Income Level

Correction

In notice document 00-11978 beginning on page 30630 in the issue of Friday, May 12, 2000, make the following correction:

On page 30633, following “Table 3 ”, add “Table 4 - Seventy Percent of Updated 2000 Lower Living Standard Income Level (LLSIL), by Family Size”, as set forth below.

[FR Doc. C0-11978 Filed 5-30-00; 8:45 am]

BILLING CODE 1505-01-D